DEPARTMENT OF ENERGY

Federal Energy Regulatory Commission

[Project No. 7887-019]

Ashuelot River Hydro, Inc.; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 7887-019.

c. Date filed: June 28, 2024.

d. Applicant: Ashuelot River Hydro, Inc. (Ashuelot Hydro).

e. Name of Project: Minnewawa Hydroelectric Project.

f. Location: On the Minnewawa Brook, in the Town of Marlborough, Cheshire County, New Hampshire.

g. Filed Pursuant to: Federal Power Act 16 U.S.C. 791(a)-825(r).

h. Applicant Contact: Justin Ahmann, Owner, Ashuelot River Hydro, Inc., 75 Somers Road, P.O. Box 474, Somers, Montana 59932; Phone at (406) 393-2127 or email Justin@apec-mt.com; or Daniel Parker, Consultant, 45north Renewable Energy, LLC, 330 May Road, Potsdam, New York 13676; Phone at (315) 261-2158 or email 45northRenewables@mail.com.

i. FERC Contact: Justin R. Robbins at (202) 502-8308, or justin.robbins@ferc.gov.

j. Cooperating agencies: Federal, State, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: August 27, 2024.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the project name and docket number on the first page: Minnewawa Hydroelectric Project (P-7887-019).

m. The application is not ready for environmental analysis at this time.

n. The existing Minnewawa Project consists of the following: (1) a 200-foot-long concrete arch dam (Minnewawa Dam) that includes a low-level outlet valve and a spillway with 2-foot-high flashboards with a crest elevation of 1070.2 feet National Geodetic Vertical Datum of 1929 (NGVD 29) at top of the flashboards; (2) an impoundment with a surface area of 10 acres at an elevation of 1070.2 feet NGVD 29; (3) a 20-foot-high, 7.5-foot-wide intake structure equipped with a trashrack with 1-inch clear bar spacing; (4) a 5,717 foot-long, 42-inch-diameter steel penstock; (5) a 55.7-foot-long, 24-foot-wide, brick and concrete powerhouse with a Francis turbine-generator unit with an authorized installed capacity of 1,000 kilowatts (kW); (6) a tailrace; (7) a step-up transformer; (8) a 100-foot-long, 12.4 kilovolt transmission line; and (9) appurtenant facilities.

The current license requires Ashuelot Hydro to operate the project in instantaneous run-of-river mode, so that flow in the Minnewawa Brook, as measured immediately downstream from the project tailrace, approximates the instantaneous sum of the inflow to the project impoundment. The current license also requires that Ashuelot Hydro release a minimum flow of 4 cubic feet per second, as measured immediately downstream from the Minnewawa Dam, or inflow to the impoundment, whichever is less. The minimum flow is released from the low-level outlet valve into a bypassed reach of Minnewawa Brook between the dam and the tailrace. The average annual generation of the project between 2003 through 2023 was 3,945 megawatt-hours.

Ashuelot Hydro propose to: (1) continue operating the project in a run- of-river mode; (2) install a new 75-kW fixed geometry turbine-generator unit in the existing powerhouse; (3) install a tap and isolation valve to the existing penstock; and (4) increase the height of the flashboards on the spillway by one foot and maintain the impoundment water surface elevation at 1071.2 feet NGVD 29 (i.e., one foot above its current level of 1070.2 feet NGVD 29).

o. Copies of the application may be viewed on the Commission's website at http://www.ferc.gov using the “eLibrary” link. Enter the docket number excluding the last three digits in the docket number field to access the document (P-7887). For assistance, contact FERC Online Support at FERCOnlineSupport@ferc.gov or call tollfree, (866) 208-3676 or (202) 502-8659 (TTY).

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

p. Procedural schedule and final amendments: The application will be processed according to the following preliminary schedule. Revisions to the schedule will be made as appropriate.

Milestone | Target date
Issue Deficiency Letter (if necessary) | August 2024.
Request for Additional Information | August 2024.
Issue Acceptance Letter | December 2024.
Issue Scoping Document 1 for comments | December 2024.
Request Additional Information (if necessary) | January 2025.
Issue Scoping Document 2 (if necessary) | March 2025.

Final amendments to the application must be filed with the Commission no later than 30 days from the issuance date of the notice of ready for environmental analysis.

Dated: July 11, 2024.
Debbie-Anne A. Reese,
Acting Secretary.

[FR Doc. 2024-15731 Filed 7-16-24; 8:45 am]

BILLING CODE 6717-01-P